NUCLEAR REGULATORY COMMISSION

[Docket No. 50-219; NRC-2010-0200]

Exelon Generation Company, LLC Oyster Creek Nuclear Generating Station Environmental Assessment and Finding of No Significant Impact

The U.S. Nuclear Regulatory Commission (NRC) is considering issuance of exemptions from Title 10 of the Code of Federal Regulations (10 CFR) Part 50, Appendix R, Section III.G, “Fire Protection of Safe Shutdown Capability,” for Renewed Facility Operating License No. DPR-16, for the use of operator manual actions in lieu of the requirements specified in Section III.G.2, as requested by Exelon Generation Company, LLC (the licensee), for operation of the Oyster Creek Nuclear Generating Station (Oyster Creek), located in Ocean County, New Jersey. Therefore, as required by 10 CFR Section 51.21, the NRC performed an environmental assessment. Based on the results of the environmental assessment, the NRC is issuing a finding of no significant impact.

Environmental Assessment

Identification of the Proposed Action

The proposed action would grant exemptions to 10 CFR Part 50, Appendix R, Section III.G.2 based on 6 operator manual actions contained in the licensee's Fire Protection Program (FPP). The licensee's FPP requires that the identified operator manual actions be performed outside of the control room to achieve shutdown following fires in certain fire areas. The licensee states that each of the manual actions was subjected to a manual action feasibility review for Oyster Creek that determined that the manual actions are feasible and can be reliably performed.

The proposed action is in accordance with the licensee's application dated March 4, 2009 (available in the Agencywide Documents Access and Management System (ADAMS) Accession No. ML090640225). By letter dated April 2, 2010 (ADAMS Accession No. ML100920370), the licensee submitted a response to an NRC staff request for additional information. In this letter the licensee identified that, as a result of clarifications included to Regulatory Guide 1.189, “Fire Protection for Nuclear Power Plants,” some of the operator manual actions included in the original exemption request no longer required an exemption.

The Need for the Proposed Action

The proposed exemption from 10 CFR Part 50, Appendix R, was submitted in response to the need for an exemption as identified by NRC Regulatory Information Summary (RIS) 2006-10, “Regulatory Expectations with Appendix R Paragraph III.G.2 Operator Manual Actions.” The RIS noted that NRC inspections identified that some licensees had relied upon operator manual actions, instead of the options specified in Paragraph III.G.2 of 10 CFR Part 50, Appendix R, as a permanent solution to resolve issues related to Thermo-Lag 330-1 fire barriers. RIS 2006-10, however, identifies that an exemption under 10 CFR Section 50.12 is necessary for use of the manual actions in lieu of the requirements of 10 CFR Part 50, Appendix R, III.G.2, even if the NRC previously issued a Safety Evaluation that found the manual actions acceptable. RIS 2006-10 and Enforcement Guidance Memorandum 07-004 (ADAMS Accession No. ML071830345) provided that exemption requests must be submitted by March 6, 2009. The licensee's proposed exemption provides the formal vehicle for NRC approval for the use of the specified operator manual actions instead of the options specified in 10 CFR Part 50, Appendix R, III.G.2.

Environmental Impacts of the Proposed Action

The NRC has completed its evaluation of the proposed action and concludes that the operator manual actions are procedural direction to take actions proscribed for response to a fire-related event at the plant and, therefore, cannot increase the probability of an event occurring or introduce a new or different kind of event. The operator manual actions restore or allow function of mitigative systems necessary to place the plant in a safe-shutdown condition. Therefore, the proposed action would not significantly increase the consequences of accidents. No changes are being made in the types of effluents that may be released off site. There is no significant increase in the amount of any effluent released off site. None of the manual actions to be performed are in areas that have radiation levels that would preclude entry. Further, the licensee stated that the highest expected dose during performance of the manual actions is 100 millirem (2 percent of the annual occupational limit), and the majority of manual actions are not in radiological controlled areas. Based on this consideration, the NRC staff finds that there is no significant increase in occupational or public radiation exposure. Therefore, there are no significant radiological impacts associated with the proposed action. The NRC staff thus concludes that granting the proposed exemption would result in no significant radiological environmental impact.

The proposed action does not result in changes to land use or water use, or result in changes to the quality or quantity of non-radiological effluents. No changes to the National Pollution Discharge Elimination System permit are needed. No effects on the aquatic or terrestrial habitat in the vicinity or the plant, or to threatened, endangered, or protected species under the Endangered Species Act, or impacts to essential fish habitat covered by the Magnuson-Stevens Act are expected. There are no impacts to the air or ambient air quality. There are no impacts to historical and cultural resources. There would be no noticeable effect on socioeconomic conditions in the region. Therefore, no changes or different types of non-radiological environmental impacts are expected as a result of the proposed action. Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the 1974 Final Environmental Statement for Oyster Creek and NUREG-1437, Vol. 1, Supplement 28, “Generic Environmental Impact Statement for License Renewal of Nuclear Plants Regarding Oyster Creek Nuclear Generating Station, Final Report—Main Report.”

Agencies and Persons Consulted

In accordance with its stated policy, on June 7, 2010, the NRC staff consulted with the New Jersey State official for the Department of Environmental Protection regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated March 4, 2009 (ADAMS Accession No. ML090640225), as supplemented on April 2, 2010 (ADAMS Accession No. ML100920370). Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 7th day of June 2010.
For the Nuclear Regulatory Commission.
G. Edward Miller,
Project Manager, Plant Licensing Branch I-2, Division of Operating Reactor Licensing Office of Nuclear Reactor Regulation.

[FR Doc. 2010-14200 Filed 6-11-10; 8:45 am]

BILLING CODE 7590-01-P